DEPARTMENT OF THE TREASURY

Internal Revenue Service

26 CFR Part 1

[REG-133673-15]

RIN 1545-BN07

Deemed Distributions Under Section 305(c) of Stock and Rights To Acquire Stock; Correction

AGENCY: Internal Revenue Service (IRS), Treasury.

ACTION: Correction to notice of proposed rulemaking.

SUMMARY: This document contains corrections to a notice of proposed rulemaking (REG-133673-15) that were published in the Federal Register on April 13, 2016 (81 FR 21795). The proposed regulations are in regards to deemed distributions of stock and rights to acquire stock. The proposed regulations would resolve ambiguities concerning the amount and timing of deemed distributions that are or result from adjustments to rights to acquire stock.

DATES: Written or electronic comments and requests for a public hearing for the notice of proposed rulemaking published at 81 FR 21795, April 13, 2016 are still being accepted and must be received by July 12, 2016.

FOR FURTHER INFORMATION CONTACT: Maurice M. LaBrie at (202) 317-5322; concerning the proposed regulations under sections 860G, 861, 1441, 1461, 1471, and 1473, Subin Seth, (202) 317-6942; concerning the proposed regulations under section 6045B, Pamela Lew, (202) 317-7053; concerning submission of comments, contact Regina Johnson, (202) 317-6901 (not toll-free numbers).

SUPPLEMENTARY INFORMATION:

Background

The notice of proposed rulemaking (REG-133673-15) that is subject of this correction is under sections 305 and 1473 of the Internal Revenue Code.

Need for Correction

As published, the notice of proposed rulemaking (REG-133673-15) contains errors that may prove to be misleading and are in need of clarification.

Correction to Publication

Accordingly, the notice of proposed rulemaking (REG-133673-15) that was the subject of FR Doc. 2016-08248 is corrected as follows:

§ 1.305-3 [CORRECTED]

1. On page 21802, first column, fourth line from the bottom of Example 6, the language “accordance with § 1.305-7(c)(4)(ii) and the” is corrected to read “accordance with § 1.305-7(c)(4)(i) and the”.

§ 1.305-7 [CORRECTED]

2. On page 21803, third column, second line of Example 3.(ii), the language “§ 1.305-1(d)(5), the holders of the convertible” is corrected to read “§ 1.305-1(d)(4), the holders of the convertible”.

§ 1.1473-1 [CORRECTED]

3. On page 21807, third column, in paragraph (d)(7), fifth line from the bottom of the page, the language “beneficial owner or a flow through” is corrected to read “beneficial owner, or a flow through”.

Martin V. Franks,
Branch Chief, Publications and Regulations Branch, Legal Processing Division, Associate Chief Counsel (Procedure and Administration).

[FR Doc. 2016-15696 Filed 7-1-16; 8:45 am]

BILLING CODE 4830-01-P